DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by March 19, 2007.

ADDRESSES: Written data or comments should be submitted to the Assistant Regional Director-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicants: Detroit Zoological Institute, Detroit, Michigan, TE-056003, and St. Louis Zoological Park, St. Louis, Missouri, TE-051140. The applicants request permits to possess Wyoming toad (Bufo baxteri) for public display and propagation in conjunction with recovery activities for the purpose of enhancing its survival and recovery.

Applicants: Bureau of Land Management, Kanab Field Office, Kanab, Utah, TE-057401; SWCA Environmental Consultants, Broomfield, Colorado, TE-047252; and, Earthtouch Environmental Consulting, Provo, Utah, TE-060668. The applicants request renewed permits to take Southwestern willow flycatcher (Empidonax traillii extimus) in conjunction with recovery activities throughout the species' range for the purpose of enhancing its survival and recovery.

Applicant: Brigham Young University, Department of Integrative Biology, Provo, Utah, TE-060645. The applicant requests a renewed permit to take June sucker (Gila cypha) in conjunction with recovery activities throughout the species' range for the purpose of enhancing its survival and recovery.

Applicant: University of Wyoming, Wyoming Natural Diversity Database, Laramie, Wyoming, TE-085324. The applicant requests a renewed permit to take blowout penstemon (Penstemon haydenii) in conjunction with recovery activities throughout the species' range for the purpose of enhancing its survival and recovery.

Applicant: Craig Kling TRC Mariah Associates, Inc., Laramie, Wyoming, TE-052582. The applicant requests a renewed permit to take Southwestern willow flycatcher (Empidonax traillii extimus) and black-footed ferret (Mustela nigripes) in conjunction with recovery activities throughout the species' range for the purpose of enhancing their survival and recovery.

Applicant: U.S. Geological Survey, Conte Anadromous Fish Research Center, Turner Falls, Massachusetts, TE-059381. The applicant requests a renewed permit to take pallid sturgeon (Scaphirhynchus albus) in conjunction with recovery activities throughout the species' range for the purpose of enhancing its survival and recovery.

Applicant: Colorado State Parks, Natural Areas Program, Denver, Colorado, TE-051368. The applicant requests a renewed permit to take Clay-loving wild buckwheat (Eriogonum pelinophilum), Dudley Bluffs bladderpod (Lesquerella congesta), Dudley Bluffs twinpod (Physaria obcordata), Knowlton cactus (Pediocactus knowltonii), North Park phacelia (Phacelia formosula), Osterhout milk-vetch (Astragalus osterhoutii), Penland alpine fen mustard (Eutrema penlandii), and Penland beardtongue (Penstemon penlandii) in conjunction with recovery activities throughout the species' range for the purpose of enhancing their survival and recovery.

Applicant: Montana Department of Fish, Wildlife and Parks, Helena, Montana, TE-047250. The applicant requests a renewed permit to take black-footed ferret (Mustela nigripes), Interior least tern (Sternula antillarum), pallid sturgeon (Scaphirhynchus albus), and piping plover (Charadrius melodus) in conjunction with recovery activities throughout the species' range for the purpose of enhancing their survival and recovery.

Applicant: National Park Service, Wind Cave National Park, Hot Springs, South Dakota, TE-145050. The applicant requests a permit to take black-footed ferret (Mustela nigripes) in conjunction with recovery activities throughout the species' range for the purpose of enhancing its survival and recovery.

Dated: January 23, 2007.
James J. Slack,
Deputy Regional Director, Denver, Colorado.

[FR Doc. E7-2747 Filed 2-15-07; 8:45 am]

BILLING CODE 4310-55-P